NUCLEAR REGULATORY COMMISSION

[NRC-2017-0196]

Regulatory Guides: “Conduct of Nuclear Material Physical Inventories,” and “Statistical Evaluation of Material Unaccounted For”

AGENCY: Nuclear Regulatory Commission.

ACTION: Regulatory guides; withdrawal.

SUMMARY: The U.S. Nuclear Regulatory Commission (NRC) is withdrawing the following regulatory guides (RGs): RG 5.13, “Conduct of Nuclear Material Physical Inventories,” Revision 0, published in June 1973, and RG 5.33, “Statistical Evaluation of Material Unaccounted For,” Revision 0, published in June 1974. These RGs are being withdrawn because the guidance has been incorporated into RG 5.88, “Physical Inventories and Material Balances at Fuel Cycle Facilities.”

DATES: The applicable date of the withdrawal of RGs 5.13, and 5.33 is September 29, 2017.

ADDRESSES: Please refer to Docket ID NRC-2017-0196 when contacting the NRC about the availability of information regarding this document. You may obtain publicly-available information related to this document using any of the following methods:

• Federal Rulemaking Web site: Go to http://www.regulations.gov and search for Docket ID NRC-2017-0196. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. The basis for withdrawal of RGs 5.13, and 5.33 is available in ADAMS under Accession Nos. ML17173A816, and ML17173A819 respectively.

• NRC's PDR: You may examine and purchase copies of public documents at the NRC's PDR, Room O1-F21, One White Flint North, 11555 Rockville Pike, Rockville, Maryland 20852.

FOR FURTHER INFORMATION CONTACT: Glenn Tuttle, Office of Nuclear Material Safety and Safeguards, telephone: 301-415-7230, email: Glenn.Tuttle@nrc.gov; or Mekonen Bayssie, Office of Nuclear Regulatory Research, telephone: 301-415-1699, email: Mekonen.Bayssie@nrc.gov. Both are staff of the U.S. Nuclear Regulatory Commission, Washington, DC 20555-0001.

SUPPLEMENTARY INFORMATION: The NRC is withdrawing RGs 5.13 published on December 6, 1973 (38 FR 33629), and 5.33 published on July 9, 1974 (39 FR 25259) because this guidance has been incorporated into RG 5.88, “Physical Inventories and Material Balances at Fuel Cycle Facilities,” (ADAMS Accession No. ML17167A292) and RGs 5.13 and 5.33 are therefore no longer needed. These two RGs were issued by the NRC staff in the 1970s to provide guidance that was considered acceptable for complying with the NRC's regulations related to the performance, evaluation, and reporting of physical inventories and material balances at fuel cycle facilities. Regulatory Guide 5.88 is being issued to update the guidance that is being withdrawn.

I. Further Information

The withdrawal of RGs 5.13 and 5.33 does not alter any prior or existing NRC licensing approval or the acceptability of licensee commitments made regarding the withdrawn guidance. Although RGs 5.13 and 5.33 are withdrawn, current licensees referencing these RGs may continue to do so, and withdrawal does not affect any existing licenses or agreements. However, by withdrawing RGs 5.13 and 5.33, the NRC no longer approves reliance upon such guidance in future requests or applications for NRC licensing actions.

Dated at Rockville, Maryland, on September 20, 2017.
For the Nuclear Regulatory Commission.
Thomas H. Boyce,
Chief, Regulatory Guidance and Generic Issues Branch, Division of Engineering, Office of Nuclear Regulatory Research.

[FR Doc. 2017-20695 Filed 9-28-17; 8:45 am]

BILLING CODE 7590-01-P